CONSUMER PRODUCT SAFETY COMMISSION

[CPSC Docket No. CPSC-2025-0009]

Request for Information on Reducing Regulatory Burdens

AGENCY: Consumer Product Safety Commission.

ACTION: Notice of request for information.

SUMMARY: The Consumer Product Safety Commission (CPSC, or Commission) invites public comment on opportunities for the Commission to reduce burdens and costs of its existing rules, regulations, or practices without impacting safety.

DATES: Submit comments by August 11, 2025.

ADDRESSES: Submit comments, identified by Docket No. CPSC-2025-0009, by any of the following methods:

Electronic Submissions: Submit electronic comments to the Federal eRulemaking Portal at: https://www.regulations.gov. Follow the instructions for submitting comments. CPSC typically does not accept comments submitted by email, except through www.regulations.gov. CPSC encourages you to submit electronic comments by using the Federal eRulemaking Portal, as described above.

Mail/Hand Delivery/Courier/Confidential Written Submissions: Submit comments by mail, hand delivery, or courier to: Office of the Secretary, Consumer Product Safety Commission, 4330 East-West Highway, Bethesda, MD 20814; (301) 504-7479. If you wish to submit confidential business information, trade secret information, or other sensitive or protected information that you do not want to be available to the public, you may submit such comments by mail, hand delivery, or courier, or you may email them to: cpsc-os@cpsc.gov.

Instructions: All submissions must include the agency name and docket number. CPSC may post all comments without change, including any personal identifiers, contact information, or other personal information provided, to https://www.regulations.gov. Do not submit through this website confidential business information, trade secret information, or other sensitive or protected information that you do not want to be available to the public. If you wish to submit such information, please submit it according to the instructions for mail/hand delivery/courier/confidential written submissions.

Docket: For access to the docket to read background documents or comments received, go to: https://www.regulations.gov, and insert the docket number, CPSC-2025-0009, into the “Search” box, and follow the prompts.

FOR FURTHER INFORMATION CONTACT: Mark Kumagai, Associate Executive Director for Engineering Sciences, U.S. Consumer Product Safety Commission, 5 Research Place, Rockville, MD 20850; telephone: (301) 987-2234; email: mkumagai@cpsc.gov.

SUPPLEMENTARY INFORMATION: CPSC provides critical public safety and law enforcement services protecting the public from unreasonable risks of injury or death associated with the use of the thousands of types of consumer products under the agency's jurisdiction. Deaths, injuries, and property damage from consumer product incidents cost the nation more than $1 trillion annually. CPSC uses a variety of approaches to achieve its mission. Among the agency's tools, CPSC promulgates regulations and issues guidance and interpretations concerning the safety of consumer products. Regulations and other practices that do not reasonably advance safety, but instead promote unscientific ideological agendas, create unnecessary burdens and costs, restrict consumer choice, or reduce competition, entrepreneurship, and innovation—and thereby restrain the American economy—should generally be eliminated or modified.

The Commission encourages members of the public—including consumers, manufacturers, retailers, potential market entrants, and others—to comment on ways to reduce burdens and costs of its existing rules, regulations, guidance, interpretations, or practices without increasing the risk of death or injury to consumers.

The Commission requests information and data in support of each suggestion. To submit your ideas and comments, please follow the instructions in the ADDRESSES section of this document.¹

¹ On June 3, 2025, the Commission voted (2-0) to publish this notice.

Alberta E. Mills,
Secretary, Consumer Product Safety Commission.

[FR Doc. 2025-10686 Filed 6-11-25; 8:45 am]

BILLING CODE 6355-01-P